DEPARTMENT OF LABOR

Office of Disability Employment Policy

[SGA 04-12]

Telework/Telecommuting Pilot Research

Solicitation for Cooperative Agreements

Announcement Type: Notice of availability of funds; solicitation for Cooperative Agreement Applications for Telework/Telecommuting Pilot Research.

Funding Opportunity Number: SGA 04-12.

Catalogue of Federal Domestic Assistance (CFDA) Number: 17.720

Key Date: Applications must be received by August 9, 2004.

Executive Summary: The U.S. Department of Labor (“DOL” or “Department”), Office of Disability Employment Policy (ODEP), announces the availability of $2.5 million to fund up to three pilot research projects to investigate, develop, and validate strategies likely * * * to yield the largest number of telework positions for people with disabilities in cooperation with Federal and State agencies.” See H. Conf. Rep. No. 108-401, 108th Cong., 1st Sess. (2003). Each cooperative agreement award will range from $600,000 to $830,000 and will be for a 36-month period of performance.

SUPPLEMENTARY INFORMATION This notice contains all of the necessary information and forms needed to apply for the ODEP Cooperative Agreement.

I. Funding Opportunity Description and Authority

In recent years, both the Executive branch and Congress have increasingly promoted telework to help achieve increased employment opportunities for people with disabilities. In response to these initiatives, the overall purpose of this research is to investigate, develop, and validate strategies likely to yield the largest number of telework positions for people with disabilities in cooperation with Federal and State agencies and to expand understanding of the full dimensions of telework as an employment option for people with disabilities through rigorous investigation and implementation of research-based comprehensive telework models.

Authorities: H. Conf. Rep. No. 108-401, 108th Cong., 1st Sess. (2003); Consolidated Appropriations Resolution, 2004.

ODEP anticipates awarding up to three cooperative agreements in the range of $600,000 to $830,000 for a 36-month period of performance. The competition for new awards focuses on research priorities identified as follows:

1. Using telework as a return-to-work strategy specifically for people with disabilities receiving Federal and State Workers' Compensation.

2. Using telework as an alternative strategy for increasing competitive employment for disabled veterans returning from tours of duty.

3. To survey public (Federal and State agencies) and private employers to identify supporting conditions and strategies that are necessary to effectively implement and sustain telework for people with disabilities.

This ODEP Cooperative Agreement anticipates substantial involvement between ODEP and the awardee during the performance of this project. Involvement will include collaboration or participation by ODEP in the overall direction of the project throughout the period of the award. ODEP will provide expertise and guidance in decisions involving the research focus, approaches/methodologies, strategies, allocation of resources, staffing, development of public information materials, analysis, and dissemination of research findings, including a final report.

Applicants will be required to address a minimum of two of priorities identified above in their applications. In addition, applicants will be required to: (1) Collaborate with Federal and State agencies to identify positions that will yield the greatest number of telework opportunities for people with disabilities and ensure the recruitment of research participants so that each sample population is appropriate and of sufficient size; (2) identify the impact of telework on productivity, performance, and costs-benefits; (3) disseminate research findings to stakeholders using accessible formats; (4) evaluate the impact of the research findings on increasing employment opportunities for people with disabilities using telework strategies validated through the research. Finally, applicants will be required to cooperate with ODEP's External Evaluation Contractor in order to conduct an independent evaluation of project activities and outcomes.

Applicants are requested to address the identified priorities by formulating research questions that are significant and relevant to the priorities previously identified. Proposals are expected to include clearly defined research designs including, but not limited to, surveys, quasi-experimental studies, observational research methodologies and others. After selection, depending upon the type of questions specified and research design proposed, ODEP reserves the right to modify or substitute questions or the research design, as appropriate. Investigators also will be required to develop outcome measures, instruments, and data analysis procedures so that study findings are reportable. Proposals will be evaluated on the basis of: (1) The significance of the proposed project; (2) the quality of the design of the research activities; (3) the quality of project personnel; (4) budget and resource capacity; (5) the quality of the management plan; and (6) the quality of data for project evaluation.

The mission of the Office of Disability Employment Policy (ODEP) is to provide leadership to increase employment opportunities for adults and youth with disabilities through expanded access to training, education, employment supports, assistive technology, integrated employment, entrepreneurial development and small business opportunities. ODEP fosters the creation of employment opportunities by building partnerships with both public and private sector employers, and with regional and local agencies to: (1) Increase their awareness and experience the benefits of employing people with disabilities, including significant disabilities; and (2) facilitate the use of effective strategies to accomplish this goal.

Workers with disabilities are an important and insufficiently tapped resource for employers. As such, ODEP is committed to ensuring appropriate skills development and training opportunities, and supporting and encouraging the creative use of alternative employment strategies and employment supports for people with disabilities.

In recent years, both the Executive branch and Congress have increasingly promoted telework to help achieve increased employment opportunities for people with disabilities. President George W. Bush believes that the ability to telework increases available employment options for individuals with disabilities, and his New Freedom Initiative directs that activities be undertaken to promote the expansion of telework options.¹

¹ The President's New Freedom Initiative for People with Disabilities: The 2004 Progress Report, March, 2004. http://www.whitehouse.gov/infocus/newfreedom/newfreedom-report-2004.pdf.

In the Conference Report to ODEP's Fiscal Year (FY) 2002 appropriation, Congress expressed its intent to set up a program focusing on telework to “include in these pilots all appropriate positions, whether the work is performed in-house, contracted, or outsourced in the types of jobs which can be performed from home, such as customer service/call contact centers, and claims, loan or financial transaction processing operations.” [H. Conf. Rep. No. 107-342, 107th Cong., 1st Sess. (2001)]. Integral to the pilots were tailored/individualized training, appropriate technology, and supportive mechanisms (e.g., reasonable accommodations, job coaching, mentoring, customized employment, etc.). Consistent with Congressional intent, ODEP funded one cooperative agreement to establish three pilot demonstration projects within Federal Government agencies to generate viable models, and replication in two other Federal agencies. For each participating agency, Federal contractors implemented the telework/telecommuting employment models. Through its evaluation research component, the project generated data on both the benefits and the challenges encountered in creating home-based telework/telecommuting options for people with significant disabilities in Federal agencies. Final evaluation results from this project are expected by the end of this calendar year.

House Conference Report No. 108-401, 108th Congress, 1st Session (2003), demonstrates Congressional intent to continue pilot research projects focusing on telework for people with disabilities. According to the report, “The conferees have included $2,500,000 within the Office of Disability Employment Policy to continue the telework efforts already initiated by ODEP. This can include expansion of pilot programs already underway and/or initiation of new telework pilots. ODEP should proceed in an expeditious manner to create telework positions in cooperation with Federal and State agencies. Priority should be given to strategies judged likely to yield the largest number of telework positions for people with disabilities.” House Conference Report, p. 731.

In general, “telework/telecommuting” is a collective term for a wide variety of work arrangements. For example, teleworkers/telecommuters may be employees or independent contractors working full-time or part-time. In addition, teleworkers/telecommuters may work from home or a telecenter all of the time, or may alternate between the two. For the ODEP telework study of FY 2002, the study defined telework/telecommuting as home-based settings only. For the purposes of this solicitation, telework/telecommuting pilot research applicants will be required to specify the operational definition of the telework/telecommuting model being researched.

As a general matter, telework/telecommuting provides opportunities for employees and employers seeking alternative employment options. For employers, telework/telecommuting can be useful in decreasing certain overhead costs, satisfying fluctuating demands for additional office and parking space, and helping its employees balance work and family demands; and thereby increasing their loyalty, productivity, and likelihood of retention. For certain employees, telework/telecommuting is appealing because it eliminates long commutes, allows for balancing of work and home life, and reduces workplace distractions.

For people with significant disabilities, telework/telecommuting sometimes provides the most viable opportunity to work, due to the lack of reliable and available employment supports, such as transportation and personal assistance. While telework/telecommuting is not a complete solution to the employment barriers encountered by persons with significant disabilities, telework/telecommuting can be an effective way of bringing persons with disabilities into the workforce.

Effective telework/telecommuting policies are the key to successful telework/telecommuting arrangements for persons with and without disabilities. Accordingly, the best practices derived from these projects are likely to have utility extending beyond the employment of people with disabilities to the population generally.

There is also a growing interest in the Federal and State agencies to find ways to lower the cost of workers' compensation. For example, the cost of Federal workplace injuries, when measured by workers' compensation losses, is more than $2 billion and 2 million lost production days annually. In FY 2003, the Federal workforce, of almost 2.7 million, filed more than 168,000 injury claims. (Presidential Memorandum, January 9, 2004).

On January 9, 2004, President George W. Bush announced the Safety, Health and Return-to-Employment (SHARE) Initiative directing Federal agencies to establish goals and track performance in four major areas. Federal agencies are charged with lowering workplace injury and illness case rates, lowering lost-time injury and illness case rates, timely reporting of injuries and illnesses and reducing lost days resulting from work injuries and illnesses. Because telework/telecommuting can provide a viable alternative for Federal and State employees to return to work, exploring ways and strategies to use telework/telecommuting as an option to accelerate the return to employment of Federal and State employees on workers' compensation through this pilot research project will support the SHARE Initiative. (Additional information about the SHARE Initiative can be located at: http://www.dol-esa.gov/share.)

There is further interest in the Federal Government to support United States soldiers who are seriously wounded in combat in Afghanistan and Iraq in their successful transition to civilian life. According to published reports, there have been more than 12,000 soldiers injured, with more than 200 soldiers classified as “seriously wounded.” Programs, such as the Department of Army and Veteran Affairs' recently established Disabled Soldier Support System (DS3), are designed to assist soldiers in navigating the return from war and maneuvering through the often complex systems of services and agencies, such as rehabilitation, housing, financial services, and employment. Many of these soldiers will need to be re-trained for new careers and employment opportunities. Telework/telecommuting, with the appropriate training, assistive technology, and employment supports, can potentially ease the transition to civilian life. ODEP is interested in research that tests telework/telecommuting models as an alternative strategy for increasing competitive employment for disabled veterans returning from tours of duty.

A final research area of interest to the Federal Government is in filling the gap in the knowledge base regarding telework/telecommuting for people with disabilities from the employer's perspective, particularly related to Federal and State agency employers. In a 2001 survey of over one thousand Federal managers and supervisors, Cornell University found that when asked whether office-based full-time positions that they currently supervised could be relocated to home-based or other off-site facilities, approximately one-third of the white-collar supervisors reported that this was possible. Less than six percent of the blue-collar supervisors saw this as possible. Supervisors of employees with disabilities were more likely to say they would be able to make current positions either home-based or split between the home and office.

When asked about the ability to develop full-time positions that could be performed from home or another off-site location, respondents indicated it would be easier to split such positions between home and off-site, rather than to develop positions full-time that would be dedicated to off-site employment. Supervisors of employees with disabilities viewed the development of these new positions as easier than those without experience with employees with disabilities.

Approximately half of the white-collar supervisors indicated that it would be easy to accommodate an individual with a chronic illness or disability with the ability to work at home for one or two days each week or intermittently. Blue-collar supervisors were far less likely to say that this arrangement would be easy or even possible. Finally, respondents indicated that off-site technology support, with guidelines for performance assessment of off-site workers, and formal flex place agreements between off-site employees and supervisors, would be helpful to them as supervisors in creating or supporting home-based or off-site/telecommuting employee position.²

² Bruyere, S., Erickson, E., & Horne, R. (2002) Disability Employment Policies and Practices in U.S. Federal Government Agencies: EEO/HR and Supervisor Perspectives. Report by the Presidential Task Force on Employment of Adults with Disabilities. Ithaca, NY: Cornell University.

The need to conduct a national survey on telework/telecommuting as a means for increasing employment opportunities for people with disabilities is prompted by two issues: (1) The lack of comprehensive and credible information reflecting attributes hindering and supporting the implementation of telework in public and private work settings; and (2) The lack of national surveys dealing with quantitative aspects of telework for people with disabilities. Information in the existing literature is scant and describes experiences and future plans for telework pilots in limited geographical areas and work settings. There is a need to understand on the national, regional and local levels about those the circumstances and entities that have potential to successfully implement teleworking as a common pattern of work for people with disabilities. The anticipated survey is intended to provide an overview and a systematic analysis of the identified experiences and schemes along with factors hindering and supporting the implementation of telework in public and private work settings. Also, a systematic investigation on national basis is needed to develop models of telework/telecommuting schemes, identify the proportion of teleworkers in various occupations, the type of work (tasks), and the type of work arrangements that can potentially be carried out via telework. Additional critical areas warranting further research include benefits and barriers to telework related to characteristics such as productivity, costs, and attitudinal and behavioral aspects from the employer perspective. It is anticipated that the survey results and findings will identify the perceived risks and benefits of telework along with the obstacles and difficulties in implementation of related policy, including insights of what it takes to promote telework-related policy objectives in cultures of work organizations. Finally, this effort is expected to yield an authoritative report along with a tool kit that could be used by public and private organizations alike.

II. Award Information

Estimated Available Funds: $2,500,000.

Estimated Range of Awards: $600,000-$830,000.

Estimated Average Size of Awards: approximately $830,000.

The U.S. Department of Labor's (DOL), Office of Disability Employment Policy, announces the availability of $2.5 million to fund up to three (3) cooperative agreement awards to conduct telework/telecommuting research pilots. Each award will be in the range of $600,000 to $830,000 for a 36-month period of performance, beginning on the date of award. This cooperative agreement will include substantial involvement between ODEP and the awardee during the period of performance. ODEP will provide project oversight throughout the period of the award. ODEP also will be involved in decisions involving the research focus, approaches/methodologies, strategies, allocation of resources, staffing, development of public information materials, and analysis and dissemination of research findings.

III. Eligibility Information

1. Eligible Applicants

Eligible applicants for this DOL Cooperative Agreement are public/private non-profit or for profit organizations or consortia, including faith-based and community organizations, with appropriate capabilities, experience, and expertise.

If the proposal includes multiple consortia members, there must be a prime or lead member who is the responsible fiscal and programmatic agent. All applications must: (1) Clearly identify the lead grant recipient and fiscal agent, as well as all other members of the consortium applying for this cooperative agreement award; (2) provide a clear description of each member's roles and responsibilities; and (3) provide a detailed plan for how the award money will be allocated among the consortium. As a DOL funded initiative, it is expected that the lead grant recipient for any such consortium shall have primary expertise in employment-related areas.

In accordance with section 18 of the Lobbying Disclosure Act of 1995, Public Law 104-65 (2 U.S.C. 1611), non-profit entities incorporated under Internal Revenue Service Code section 501(c)(4) that engage in lobbying activities are not eligible to receive Federal funds and grants.

2. Cost Sharing

Cost sharing, matching funds, and cost participation are not required under this SGA.

IV. Application and Submission Information

1. Addresses To Request Application Package

This SGA contains all the information and forms needed to apply for this grant funding. Application announcements or forms will not be mailed. The Federal Register may be obtained from your nearest government office or library. In addition, a copy of this notice and the application requirements may be downloaded from ODEP's Web site at http://www.dol.gov/odep and at http://www.fedgrants.gov. If additional copies of the standard forms are needed, they can also be downloaded from: http://www.whitehouse.gov/omb/grants/grants_forms.html.

2. Content and Form of Application Submission

General Requirements: To be considered responsive, all applications must be received on time to: U.S. Department of Labor, Procurement Services Center, Attention: Cassandra Mitchell, Reference SGA 04-12, Room N-5416, 200 Constitution Avenue, NW., Washington, DC 20210. Applicants must submit one (1) paper copy with an original signature, and [two (2) additional paper copies of the signed proposal. To aid with the review of applications, DOL also requests applicants to submit an electronic copy of their proposal's Sections II (Executive Summary) and III (Project Narrative) on disc or Compact Disc (CD) using Microsoft Word.] The application (not to exceed 50 pages for Section III), must be double-spaced with standard one-inch margins (top, bottom, and sides) on 8½ × 11-inch paper, and must be presented on single-sided and numbered pages. A font size of at least twelve (12) pitch is required throughout. All text in the application narrative, including titles, headings, footnotes, quotations, and captions, as well as all text in charts, tables, figures, and graphs must be double-spaced (no more than three lines per vertical inch); and, if using a proportional computer font, must be in at least a 12-point font, and must have an average character density no greater than 18 characters per inch (if using a non-proportional font or a typewriter, must not be more than 12 characters per inch). Applications that fail to meet these requirements will be considered non-responsive.

DOL Cooperative Agreement Requirements: The three required sections of the application are:

Section I—Project Financial Plan (No page limit)

Section II—Executive Summary—Project Synopsis (2 pages)

Section III—Project Narrative (Not to exceed 50 pages)

The mandatory requirements for each section are set forth below. Applications that fail to meet the stated mandatory requirements for each section will be considered non-responsive.

Mandatory Application Requirements:

• Section I. Project Financial Plan (Budget) [The Project Financial Plan will not count against the application page limits.] Section I of the application must include the following three required parts:

(1) Completed “SF-424—Application for Federal Assistance.” Please note that, beginning October 1, 2003, all applicants for federal grant and funding opportunities are required to include a Dun and Bradstreet (DUNS) number with their application. See OMB Notice of Final Policy Issuance, 68 FR 38402 (June 27, 2003). The DUNS number is a nine-digit identification number that uniquely identifies business entities. There is no charge for obtaining a DUNS number (although it may take 14-30 days). To obtain a DUNS number, access the following Web site: http://www.dunandbradstreet.com or call 1-866-705-5711. Requests for exemption from the DUNS number requirement must be made to OMB. The Dun and Bradstreet Number of the applicant should be entered in the “Organizational Unit” section of block 5 of the SF 424. (See Appendix A of this SGA for required form.)

(2) Completed SF-424 A—Budget Information Form by line item for all costs required to implement the project design effectively. (See Appendix B of this SGA for required forms)

(3) DOL Budget Narrative and Justification that provides sufficient information to support the reasonableness of the costs included in the budget in relation to the service strategy and planned outcomes, including continuous improvement activities.

The DOL Cooperative Agreement application must include one SF-424 with the original signatures of the legal entity applying for Cooperative Agreement funding and two additional copies. The individual signing the SF-424, on behalf of the applicant, must represent and be able to legally bind the responsible financial and administrative entity for a Cooperative Agreement should that application result in an award. Applicants shall indicate on the SF-424 the organization's Internal Revenue Service (IRS) Status, if applicable.

The DOL Budget Narrative and Justification must describe all costs associated with implementing the project that are to be covered with Cooperative Agreement funds. The applicant must support the travel and associated costs of sending at least one representative to periodic meetings with DOL staff in Washington, DC (at least once per quarter) and to the annual ODEP Policy Conference for its grantees, to be held in Washington, DC, at a time and place to be determined. [The applicant must comply with the “Uniform Administrative Requirements for Grants and Cooperative Agreements to State and Local Governments,” (also known as OMB Circular A-102”), codified at 29 CFR part 97, or “Grants and Agreements with Institutions of Higher Education, Hospitals, and Other Non-Profit Organizations' (also known as the “Common Rule” or OMB Circular A-110), codified at 29 CFR part 95.

In addition, the budget submitted for review by DOL must include, on a separate page, a detailed cost analysis of each line item. The costs listed in the detailed cost analysis must comply with the applicable OMB cost principles circulars, as identified in 29 CFR 95.27 and 29 CFR 97.22(b). Justification for administrative costs must be provided. Approval of a budget by DOL is not the same as the approval of actual costs. The applicant must also include the Assurances and Certifications Signature Page (Appendix C) and the Survey on Ensuring Equal Opportunity for Applicants (Appendix D).

• Section II. Executive Summary—Project Synopsis: The Executive Summary is limited to no more than two single-spaced, single-sided pages on 8½ × 11-inch paper with standard margins throughout. Each application shall include a project synopsis that identifies the following:

(1) The applicant;

(2) The planned period of performance;

(3) The list of partners, as appropriate; and,

(4) An overview of how the applicant will conduct the research, analyze the data and present the findings.

• Section III. Project Narrative: The DOL Cooperative Agreement Project Narrative is limited to no more than fifty (50), 8½ × 11 pages, double-spaced with standard one-inch margins (top, bottom, and sides), and must be presented on single-sided, numbered pages. [Note: The Financial Plan, the Executive Summary, and the Appendices, including letters of cooperation, resumes, etc., are not included in this fifty-page limit].

3. Submission Dates, Times, and Addresses

Applications will be accepted commencing July 8, 2004. The closing date for receipt of applications by DOL under this announcement is August 9, 2004.

Applications, including those hand-delivered, must be received by 4:45 p.m. (ET) at the address specified below. No exceptions to the mailing and hand-delivery conditions set forth in this notice will be granted. Applications that do not meet the conditions set forth in this notice will be considered non-responsive.

Applications must be mailed or hand-delivered to: U.S. Department of Labor, Procurement Services Center, Attention: Cassandra Mitchell, Reference SGA 04-12, Room N-5416, 200 Constitution Avenue, NW., Washington, DC 20210. Telefascimile (FAX) applications will not be accepted.

Hand-Delivered Proposals. It is preferred that applications be mailed at least five (5) days prior to the closing date. Hand-delivered applications will be considered for funding, but must be at DOL by the above specified date and time. Overnight or express delivery from carriers other than the U.S. Postal Service will be considered hand-delivered applications. Failure to adhere to the above instructions will serve as a basis for a determination of non-responsiveness.

Applicants are advised that mail in the Washington area may be delayed due to mail decontamination procedures and may wish to take this information into consideration when preparing to meet the application deadline.

Late Applications. Any application received after the exact date and time specified for receipt at the office designated in this notice will be considered non-responsive, unless it is received before awards are made and it: (a) Is determined that its late receipt was caused by DOL error after timely delivery to the Department of Labor; (b) was sent by U.S. Postal Service registered or certified mail not later than the fifth calendar day before the date specified for receipt of applications (e.g., an application submitted in response to a solicitation requiring receipt of applications by the 20th of the month must have been post marked by the 15th of that month); or (c) was sent by the U.S. Postal Service Express Mail Next Day Service to addressee not later than 5 p.m. at the place of mailing two (2) working days prior to the date specified for receipt of applications. The term “working days” excludes weekends and Federal holidays. “Postmarked” means a printed, stamped, or otherwise placed impression (exclusive of a postage meter machine impression) that is readily identifiable without further action, as having been supplied or affixed on the date of mailing by an employee of the U.S. Postal Service.

Withdrawal of Applications. An application that is timely submitted may be withdrawn by written notice or telegram (including mailgram) at any time before an award is made. Applications may be withdrawn in person by the applicant or by an authorized representative thereof, if the representative's identity is made known and the representative signs a receipt of the proposal.

4. Intergovernmental Review

This funding opportunity is not subject to Executive Order 12372, “Intergovernmental Review of Federal Programs.”

5. Funding Restrictions

A. Funding Levels

The total funding available for this solicitation is $2.5 million. Up to three (3) awards in the range of $600,000 to $830,000 each will be made. The Department of Labor reserves the right to negotiate the amounts to be awarded under this competition. Please be advised that requests exceeding $830,000 will be considered non-responsive. Additionally, there will be no reimbursement of pre-award costs.

B. Period of Performance

The period of performance will be for 36 months from date of the award unless modified. It is expected that the successful applicant will begin program operations under this solicitation immediately upon receiving the “Notice of Award.”

C. Option Year Funding

Not applicable.

D. Limitation on Indirect Costs

Indirect costs claimed by the applicant must be based on a federally approved rate. A copy of the negotiated approved, and signed indirect cost agreement must be submitted with the application. If the applicant does not presently have an approved indirect cost rate, a proposed rate with justification may be submitted. The successful applicant will be required to negotiate an acceptable and allowable rate with the appropriate DOL Regional Office of Cost Determination within 90 days of the cooperative agreement award.

V. Application Review Information

1. Criteria

In response to Executive branch and Congressional initiatives, the main thrust of this effort is to generate knowledge and understanding of the impact of telework/telecommuting arrangements and identify evidence-based approaches and strategies that would enhance the employment of people with disabilities in Federal and State agencies. Hence, each proposal must ensure that each project has sufficient sample size and methodological rigor to generate robust findings.

Applicants will be required to address a minimum of two (2) of the following priorities in their applications.

1. Using telework as a return-to-work strategy specifically for people with disabilities receiving Federal and State Workers' Compensation.

2. Using telework as an alternative strategy for increasing competitive employment for disabled veterans returning from tours of duty.

3. To survey public (Federal and State agencies) and private employers in order to identify supporting conditions and strategies that are necessary to effectively implement and sustain telework for people with disabilities.

In addition, applicants will be required to: (1) Collaborate with Federal and State agencies to identify positions that will yield the greatest number of telework opportunities for people with disabilities and ensure the recruitment of research participants so that each sample population is appropriate and of sufficient size; (2) identify the impact of telework on productivity, performance, and costs-benefits; (3) disseminate research findings to stakeholders, using accessible formats; (4) evaluate impact of the research findings on increasing employment opportunities for people with disabilities using telework strategies validated through the research. Finally, applicants will be required to cooperate with ODEP's External Evaluation Contractor in order to conduct an independent evaluation of project activities and outcomes.

Applicants are requested to address the identified priorities by formulating research questions that are significant and relevant to the stated priorities. Proposals are expected to include clearly defined research designs, including but not limited to, surveys, quasi-experimental studies, observational research methodologies and others. After selection, depending upon the type of questions specified and research design proposed, ODEP reserves the right to modify or substitute as appropriate. Also, investigators will be required to develop outcome measures, instruments, and data analysis procedures so that study findings are reportable.

In review of applications, proposals will be evaluated under the following evaluation criteria and maximum possible point scores.

A. Significance of the Proposed Project (10 Points)

In determining the significance of the proposed project, DOL considers the following factors:

i. The potential contribution of the proposed research to increase knowledge or understanding of the stated problems, issues, or effective strategies;

ii. The extent to which the research activities proposed reflect a coherent, sustained approach to research in the field, including a substantial addition to the existing literature;

iii. The extent to which the proposed research is likely to yield findings that may be used by other appropriate agencies and organizations;

iv. The extent to which the proposed project involves the development or demonstration of promising new strategies that build upon, or are alternatives to, existing strategies;

v. The extent to which the plans for dissemination and reporting of results and findings are of sufficient quality, intensity, and accessible to individuals with disability;

vi. The extent to which collaboration with Federal and State agencies, people with disabilities, other relevant stakeholders, and ODEP's external evaluation contractor is likely to be effective in achieving the proposed activities.

B. Quality of the Research Design (25 Points)

In evaluating the quality of the proposed research design, the Department considers the following factors:

i. The extent to which the methodology of each proposed research activity is meritorious, including a comprehensive and informed review of the current literature, appropriateness of the sample population and size;

ii. The extent to which the proposal provides a comprehensive description of a research plan that outlines specific elements of the anticipated research;

iii. The extent to which the goals, objectives, and outcomes to be achieved by the proposed research project are clearly specified and measurable;

iv. The extent to which the design of the proposed project incorporates measures adequate to facilitate external evaluation by ODEP's external evaluation contractor;

v. The extent to which the design of the proposed project is appropriate to, and will successfully address the needs of the target population and other identified needs;

vi. The adequacy of the documentation submitted in support of the proposed research design to demonstrate the commitment of each applicant and affiliated partners and the quality of the plan that the applicant will use to recruit, enlist, and secure cooperation of other experts.

C. Quality of Project Personnel (15 Points)

The Project Narrative must describe the proposed staffing of the project and must identify and summarize the qualifications of the personnel who will carry it out. In addition, the Department considers the qualifications, including relevant education, training and experience of key project personnel, as well as the qualifications, including relevant training and experience of project consultants or subcontractors. Resumes must be included in the appendices. Key personnel include positions such as: Principle Investigator, Project Director, Project Coordinator, Project Manager, Research Analyst, etc. Minimum qualifications should be commensurate with the role identified in the application. In addition, the applicant must specify the percentages of time dedicated by each key person on the project in their application.

D. Budget and Resource Capacity (10 Points)

In evaluating the capacity of the applicant to carry out the proposed project, DOL considers the following factors:

i. The applicant's demonstrated experience and expertise in conducting research on telework, employment and disability issues;

ii. The extent to which the budget is adequate to support the proposed research project; and

iii. The extent to which the anticipated costs are reasonable in relation to the objectives, design, and potential significance of the proposed project.

E. Quality of the Management Plan (25 Points)

In evaluating the quality of the management plan for the proposed project, DOL considers the following factors:

i. The extent to which the management plan for project implementation appears likely to achieve the objectives of the proposed project on time and within budget, and includes clearly defined staff responsibilities, time allocation to project activities, time lines, milestones for accomplishing project tasks, and project deliverables;

ii. The adequacy of mechanisms for ensuring the dissemination of high-quality products, including the reporting of research findings for the proposed project; and

iii. The extent to which the time commitments of the principal investigator and other key project personnel are appropriate and adequate to meet the objectives of the proposed project.

F. Quality of Data for Project Evaluation (15 Points)

In evaluating the quality of data to be generated, in order to assess the impact of the research findings, DOL considers the following factors:

i. The extent to which the research methods include the use of objective performance measures that are clearly related to the intended outcomes of the project and will produce quantitative and qualitative evaluative and reportable data;

ii. The extent to which the evaluation will provide information to the Federal and State governments and other employers about effective telework/telecommuting strategies suitable for replication or testing in other settings.

2. Reviews and Selection Process

Applications will be reviewed for compliance with the requirements of this notice. A careful evaluation of applications will be made by a technical review panel, which will evaluate the applications against the rating criteria listed in this Solicitation for Grant Announcement. The panel results are advisory in nature and not binding on the Grant Officer. DOL may elect to award grants with or without discussion with the offeror. In situations without discussions, an award will be based on the offeror's signature on the SF-424, which constitutes a binding offer. The Grant Officer may consider any information that is available and will make final award decisions based on what is most advantageous to the Government, considering such factors as:

• Panel findings; and,

• Availability of funds.

3. Anticipated Announcement and Award Dates

Not applicable.

VI. Award Administration Information

1. Award Notices. All awards will be posted on ODEP's Web site at http://www2.dol.gov/odep. Successful and unsuccessful applicants will be notified of the results.

2. Administrative and National Policy Requirements. All awardees will be subject to applicable Federal laws, regulations, and OMB circulars. Applicants are strongly encouraged to read the following regulations before submitting a proposal. The Cooperative Agreement awarded under this SGA shall be subject to the following as applicable:

• 29 CFR Part 95—Grants and Agreements With Institutions of Higher Education, Hospitals, and Other Non-Profit Organizations, and With Commercial Organizations, Foreign Governments, Organizations Under the Jurisdiction of Foreign Governments, and International Organizations;

• 29 CFR Part 96—Audit Requirements for Grants, Contracts, and Other Agreements.

Allowable Costs

Determinations of allowable costs shall be made in accordance with the following applicable federal cost principles:

• Nonprofit Organizations—OMB Circular A-122

• Profit-Making Commercial Firms “ 48 CFR Part 31

Profit will not be considered an allowable cost in any case.

Cooperative Agreement Assurances

As a condition of the award, the applicant must certify that it will comply fully with the following nondiscrimination and equal opportunity regulations:

• 29 CFR Part 31—Nondiscrimination in Federally-assisted programs of the Department of Labor, effectuation of Title VI of the Civil Rights Act of 1964;

• 29 CFR Part 32—Nondiscrimination on the Basis of Disability in Programs and Activities Receiving or Benefiting from Federal Assistance (Implementing Section 504 of the Rehabilitation Act, 29 U.S.C. 794);

• 29 CFR Part 36—Nondiscrimination on the Basis of Sex in Education Programs or Activities Receiving Federal Financial Assistance (Implementing Title IX of the Education Amendments of 1972, 20 U.S.C. 1681 et seq.); and

• 29 CFR Part 37—Nondiscrimination and Equal Opportunity Provisions of the Workforce Investment Act of 1998 (WIA), (Implementing Section 188 of the Workforce Investment Act, 29 U.S.C. 2938).

The applicant must include assurances and certifications that it will comply with these laws in its Cooperative Agreement application. The assurances and certifications are attached as Appendix C.

3. Reporting and Monitoring

ODEP is responsible for ensuring the effective implementation of this Cooperative Agreement, in accordance with the provisions of this announcement and the terms of the Cooperative Agreement award document. Applicants should assume that ODEP staff will conduct on-site project reviews periodically. Reviews will focus on timely project implementation, performance in meeting the Cooperative Agreement's objectives, tasks and responsibilities, expenditures of Cooperative Agreement funds on allowable activities, and administration of project activities. Projects may be subject to other additional reviews, at the discretion of the ODEP staff or their announced designees.

The DOL Cooperative Agreement awardee, under this competition, will be required to submit to DOL quarterly financial and narrative program progress reports for each quarter funded. The awardee will be required to submit periodic financial and participation reports. Specifically, the following reports will be required:

A. Quarterly reports: The quarterly report is estimated to take ten hours to complete. The form for the Quarterly Report will be provided by the ODEP. The ODEP will work with the awardee to help refine the requirements of the report, which will, among other things, include measures of ongoing analysis for continuous improvement and customer satisfaction. Quarterly reports will be due 30 days after the close of the quarters of each Federal fiscal year. This report will be filed using an on-line reporting system.

B. Standard Form 269: Financial Status Report Form (FSR) will be completed on a quarterly basis, using the on-line electronic reporting system.

C. Final Project Report: The final report will include an assessment of project performance and outcomes achieved. The final report is estimated to take twenty (20) hours to complete. This report will be submitted in hard copy and on electronic disk complying with format and instructions provided by the ODEP. An outline of the final report is due to ODEP forty-five (45) days before termination of the Cooperative Agreement with a draft of the final report due to ODEP thirty (30) days before the termination of the Cooperative Agreement. The final report is due to ODEP no more than thirty (30) days after the termination of the Cooperative Agreement.

The awardee must agree to cooperate with independent evaluations to be conducted by ODEP. ODEP or its designee will arrange for and conduct this independent evaluation of the outcomes, impact, and accomplishments of the project. The awardee must agree to make available records on all parts of project activity, including participant related data, and to provide access to personnel, as specified by the evaluator(s), under the direction of the ODEP. This independent evaluation is separate from any proposed ongoing evaluation for continuous improvement commissioned by the awardee.

VII. Agency Contacts

For information on this DOL Cooperative Agreement and related items contact Cassandra Mitchell, U.S. Department of Labor, Procurement Services Center, telephone (202) 693-4570 (this is not a toll-free number), prior to the closing deadline. Persons who are deaf or hard of hearing may contact Cassandra Mitchell, via the Federal Relay Service, (800) 877-8339. Applications, announcements, or forms will not be mailed. The Federal Register may be obtained from your nearest government office or library. This announcement and the award notifications will also be published on the Internet on the ODEP's online Home Page at: http://www.dol.gov/odep and at http://www.fedgrants.gov.

Signed at Washington, DC this 25th day of June, 2004.
Johnny A. Arnold, II,
Acting DOL Grants Officer.

Appendices:

Appendix A: Application for Federal Assistance SF 424

Appendix B: Budget Information Sheet SF 424A

Appendix C: Assurances and Certifications Signature Page

Appendix D: Survey on Ensuring Equal Opportunity for Applicants

BILLING CODE 4510-CX-P

[FR Doc. 04-15521 Filed 7-7-04; 8:45 am]

BILLING CODE 4510-CX-P